ENVIRONMENTAL PROTECTION AGENCY

[EPA-HQ-OPP-2009-1017; FRL-9378-9]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless a registrant withdraws its request. If these requests are granted, any sale, distribution, or use of products listed in this notice will be permitted after the registration has been cancelled only if such sale, distribution, or use is consistent with the terms as described in any final cancellation order.

DATES: Comments must be received on or before March 22, 2013.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 39 pesticide products registered under FIFRA section 3 or 24(c). These registrations are listed in sequence by registration number (or company number and 24(c) number) in Table 1 of this unit.

Unless the Agency determines that there are substantive comments that warrant further review of the requests or a registrant withdraws its request, EPA intends to issue an order in the Federal Register canceling all of the affected registrations.

Table 1—Registrations With Pending Requests for Cancellation
Registration No. | Product name | Chemical name
000279-03153 | Firstline Termite Bait Station | Sulfluramid
000279-03170 | Firstline Termite Bait Tube Station | Sulfluramid
000279-03171 | Firstline Termite Bait Container Station | Sulfluramid
000279-03196 | Firstline GT Plus Termite Bait Station | Sulfluramid
000432-01334 | Tempo Liquid Concentrate | Cyfluthrin
000432-01358 | Tempo 20% Dry Concentrate | Cyfluthrin
000499-00518 | Prescription Treatment Brand 2% Propoxur Bait | Propoxur
000499-00532 | TC 277 | Piperonyl butoxide, Pyrethrins (No Inert Use)
007173-00283 | Difethialone Bait Station | Difethialone
007173-00285 | Difethialone 6G Paste Place Packs | Difethialone
007946-00010 | Inject-A-Cide | Oxydemeton-methyl
009404-00087 | Permethrin 0.25% Insecticide Granules | Permethrin
009404-00088 | Sunniland Chinch Bug & Mole Cricket Spray | Permethrin
010163-00219 | MSR 50% Concentrate Insecticide | Oxydemeton-methyl
010163-00220 | MSR Spray Concentrate | Oxydemeton-methyl
39959-00001 | A-106 | Poly(oxy-1, 2-ethanediyl(dimethylimino)-1, 2-ethanediyl(dimethylimino)-1, 2-ethanediyl dichloride)
039959-00002 | 7618 | Poly(oxy-1, 2-ethanediyl(dimethylimino)-1, 2-ethanediyl(dimethylimino)-1, 2-ethanediyl dichloride)
039959-00003 | 7619 | Poly(oxy-1, 2-ethanediyl(dimethylimino)-1, 2-ethanediyl(dimethylimino)-1, 2-ethanediyl dichloride)
045385-00001 | Chem-Tox Roach and Ant Spray with Baygon | Propoxur, Piperonyl butoxide, Pyrethrins (No Inert Use)
045385-00025 | Chem-Tox Pyronox Dual 0.1 | MGK 264, Piperonyl butoxide, Pyrethrins (No Inert Use)
045385-00082 | Cenol Small Animal and Kennel Spray | Piperonyl butoxide, Pyrethrins (No Inert Use)
046043-00031 | Suncoast's Pool Algaecide 20 | Poly(oxy-1, 2-ethanediyl(dimethylimino)-1, 2-ethanediyl(dimethylimino)-1, 2-ethanediyl dichloride)
047000-00168 | R & M Permethrin Flea & Tick Dip #1 | Permethrin
060061-00017 | Woodtreat C8 Concentrate | Copper, bis(8-quinolinolato-N1,O8)-
060061-00018 | Woodtreat C8 Ready To Use | Copper, bis(8-quinolinolato-N1,O8)-
060061-00022 | Woodtreat C81 Ready To Use Water Repellent Fungicide | Copper, bis(8-quinolinolato-N1,O8)-
064014-00009 | Harpoon | Oxydemeton-methyl
074601-00001 | Chlorothalonil Technical Fungicide | Chlorothalonil
085905-00005 | CFL 3% Diflubenzuron Feedthrough | Diflubenzuron
086869-00002 | Propiconazole Select | Propiconazole
CA010003 | MSR Spray Concentrate | Oxydemeton-methyl
FL960006 | Metasystox-R-Spray Concentrate | Oxydemeton-methyl
ID010011 | Metasystox-R-Spray Concentrate | Oxydemeton-methyl
ME070001 | Devrinol 50-DF | Napropamide
MI070004 | Kerb 50-W | Propyzamide
NY030002 | Metasystox-R-Spray Concentrate | Oxydemeton-methyl
WA030001 | Metasystox-R-Spray Concentrate | Oxydemeton-methyl
WA030002 | Metasystox-R-Spray Concentrate | Oxydemeton-methyl
WA060005 | MSR Spray Concentrate | Oxydemeton-methyl

Table 2 of this unit includes the names and addresses of record for all registrants of the products in Table 1 of this unit, in sequence by EPA company number. This number corresponds to the first part of the EPA registration numbers of the products listed in this unit.

Table 2—Registrants Requesting Voluntary Cancellation
EPA Company No. | Company name and address
279 | FMC Corp., Agricultural Products Group, 1735 Market St., Room 1978, Philadelphia, PA 19103.
432 | Bayer Environmental Science, 2 T.W. Alexander Dr., P.O. Box 12014, Research Triangle Park, NC 27709.
499 | Whitmore Micro-Gen Research Laboratories, Inc. Agent: BASF Corporation, 3568 Tree Court Industrial Blvd., St. Louis, MO 63122-6682.
7173 | Liphatech, Inc., 3600 W. Elm St., Milwaukee, WI 53209.
7946 | J.J. Mauget Co., Agent: Scireg, Inc., 12733 Director's Loop, Woodbridge, VA 22192.
9404 | Sunniland Corporation, P.O. Box 8001, Sanford, FL 32772-8001.
10163 | Gowan Company, P.O. Box 5569, Yuma, AZ 85366-8844.
39959 | Chemicals, Inc., 13560 Colombard Court, Fontana, CA 92337.
45385 | CTX-Cenol, Inc., Agent: H.R. Mclane, Inc., 7210 Red Rd., Suite 206A, Miami, FL 33143.
46043 | Suncoast Chemicals Co., 14480 62nd St. N., Clearwater, FL 33760.
47000 | Chem-Tech, Ltd., 4515 Fleur Dr. #303, Des Moines, IA.
60061 | Kop-Coat, Inc., 3020 William Pitt Way, Pittsburgh, PA 15238.
64014 | Florida Silvics, Inc., d/b/a Tree Tech Microinjection Systems, 950 S.E. 215th Ave., Morriston, FL 32668.
74601 | Oxon Italia S.P.A., Agent: Lewis & Harrison, LLC, 122 C St., NW., Suite 740, Washington, DC 20001.
81880 | Canyon Group, LLC, c/o Gowan Company, 370 S. Main St., Yuma, AZ 85364.
85905 | Champion Farmaquimico, LTDA, Agent: J&T Associates, LLC, 4061 North 156th Dr., Goodyear, AZ 85395.
86869 | Select Source, LLC, Agent: Wagner Regulatory Associates, Inc., P.O. Box 640, Hockessin, DE 19707.
88058 | Orion Ato, LLC, Agent: Source Dynamics LLC, S122230 E. Del Norte, Yuma, AZ 85377-7355.
CA010003, FL960006, ID010011, NY030002, WA030001, WA030002, WA060005 | Gowan Company, P.O. Box 5569, Yuma, AZ 85366-8844.
ME070001 | United Phosphorus, Inc., 630 Freedom Business Center, Suite 402, King of Prussia, PA 19406.
MI070004 | Dow AgroSciences, LLC, 9330 Zionsville Rd., 308/2E, Indianapolis, IN 46268-1054.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period or,

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are in the United States and that were packaged, labeled, and released for shipment prior to the effective date of the cancellation action.

For Products 007173-00283 and 007173-00285:

Because the Agency has identified significant potential risk concerns associated with these pesticide products, upon cancellation EPA intends to issue a cancellation order prohibiting sale or distribution of existing stocks by the registrant, except for export consistent with FIFRA section 17 or for proper disposal. Persons other than the registrant will be allowed to sell or distribute existing stocks of products, until such stocks are exhausted. Users will be allowed to use existing stocks regardless of date of purchase until such stocks are exhausted, provided that such use is consistent with the terms of the previously approved labeling on, or that accompanied, the canceled product.

For all other products identified in Table 1 of Unit II:

Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: February 12, 2013.
Richard P. Keigwin, Jr.,
Director, Pesticide Re-Evaluation Division, Office of Pesticide Programs.

[FR Doc. 2013-03844 Filed 2-19-13; 8:45 am]

BILLING CODE 6560-50-P